DEPARTMENT OF HEALTH AND HUMAN SERVICES

Administration for Children and Families

Administration on Developmental Disabilities (ADD); Funding Opportunity Title: Family Support Initiative 2004

Announcement Type: Initial.

Funding Opportunity Number: HHS-2004-ACF-ADD-DF-0001.

CFDA Number: 93.631—Developmental Disabilities—Projects of National Significance.

Due Date for Applications: The due date for receipt of applications is 4:30 p.m. Eastern Standard Time (EST) on June 8, 2004.

I. Funding Opportunity Description

Objectives: To provide funds to States to create or expand statewide systems change for Family Support. To allow for the award of competitive grants to conduct training, technical assistance, and other national activities designed to address the problems that impede the self-sufficiency of families of children with developmental disabilities. This program announcement will provide funds for the development phase of the Family Support Initiative.

Statutory Authority Covered Under This Announcement

This announcement is covered under the Developmental Disabilities Assistance and Bill of Rights Act of 2000, 42 U.S.C. 15001-15115. Projects of National Significance is Part E of the Developmental Disabilities Assistance and Bill of Rights Act of 2000, 42 U.S.C. 15081-15083. Provisions under this section provide for the award of grants, contracts, or cooperative agreements for Projects of National Significance that support:

• The development of national and State policies that reinforce and promote the self-determination, independence, productivity, integration, and inclusion in all facets of community life of individuals with developmental disabilities;

• Family support activities, data collection and analysis, technical assistance to entities that provide family support and data collection activities; and

• Other projects of sufficient size and scope that hold promise to expand or improve opportunities for individuals with developmental disabilities.

General Description

The Administration on Developmental Disabilities (ADD) is located within the Administration for Children and Families (ACF), Department of Health and Human Services (DHHS). ADD shares goals with other ACF programs that promote the economic and social well-being of families, children, individuals, and communities. ACF and ADD envision:

• Families and individuals empowered to increase their own economic independence and productivity;

• Strong, healthy, supportive communities having a positive impact on the quality of life and the development of children;

• Partnerships with individuals, front-line service providers, communities, States, and Congress that enable solutions that transcend traditional agency boundaries;

• Services planned and integrated to improve access to programs and supports for individuals and families;

• A strong commitment to working with Native Americans, persons with developmental disabilities, refugees, and migrants to address their needs, strengths and abilities;

• A recognition of the power and effectiveness of public-private partnerships, including collaboration among community groups, such as faith-based organizations, families, and public agencies; and

• A community-based approach that recognizes and expands on the resources and benefits of diversity.

These goals will enable individuals, including people with developmental disabilities, to live productive and independent lives integrated into their communities. The Projects of National Significance (PNS) program is one means through which ADD promotes the achievement of these goals.

The Administration on Developmental Disabilities (ADD) is the lead agency within ACF and DHHS responsible for planning and administering programs to promote self-sufficiency and protect the rights of persons with developmental disabilities. ADD implements the Developmental Disabilities Assistance and Bill of Rights Act (the DD Act), which was authorized by Congress in 2000.

This Act supports and provides assistance to States, public, private non-profit agencies, and organizations, including faith-based organizations, to assure that individuals with developmental disabilities and their families participate in the design of and have access to culturally competent services, supports, and other assistance and opportunities that promote independence, productivity, integration, and inclusion into the community.

As defined in the DD Act, the term “developmental disabilities” means a severe, chronic disability of an individual that is attributable to a mental or physical impairment or combination of mental and physical impairments that is manifested before the individual attains age 22 and is likely to continue indefinitely. Developmental disabilities result in substantial limitations in three or more of the following functional areas; self-care, receptive and expressive language, learning, mobility, self-direction, capacity for independent living, and capacity for economic self-sufficiency.

A number of significant findings are identified in the DD Act, including:

• Disability is a natural part of the human experience that does not diminish the right of individuals with developmental disabilities to enjoy the opportunity for independence, productivity, integration, and inclusion into the community;

• Individuals whose disabilities occur during their developmental period frequently have severe disabilities that are likely to continue indefinitely; and

• Individuals with developmental disabilities often require lifelong specialized services and assistance, provided in a coordinated and culturally competent manner by many agencies, professionals, advocates, community representatives, and others to eliminate barriers and to meet the needs of such individuals and their families.

The DD Act also promotes the best practices and policies presented below:

• Individuals with developmental disabilities, including those with the most severe developmental disabilities, are capable of achieving independence, productivity, integration, and inclusion into the community, and often require the provision of services, supports, and other assistance to achieve such;

• Individuals with developmental disabilities have competencies, capabilities, and personal goals that should be recognized, supported, and encouraged, and any assistance to such individuals should be provided in an individualized manner, consistent with the unique strengths, resources, priorities, concerns, abilities, and capabilities of the individual; and

• Individuals with developmental disabilities and their families are the primary decision makers regarding the services and supports such individuals and their families receive, and play decision making roles in policies and programs that affect the lives of such individuals and their families.

Toward these ends, ADD seeks to support and accomplish the following:

• Enhance the capabilities of families in assisting individuals with developmental disabilities to achieve their maximum potential;

• Support the increasing ability of individuals with developmental disabilities to exercise greater choice and self-determination and to engage in leadership activities in their communities; and

• Ensure the protection of individuals with developmental disabilities' legal and human rights.

The four programs funded under the Act are:

• State Developmental Disabilities Councils;

• State Protection and Advocacy Systems for Individuals with Developmental Disabilities' Rights;

• Grants to the National Network of University Centers for Excellence in Developmental Disabilities, Education, Research, and Service; and

• Grants for Projects of National Significance.

A. Description of the Family Support Program. The Developmental Disabilities Assistance and Bill of Rights Act of 2000, 42 U.S.C. 15001-15115 was authorized on October 30, 2000. The purpose of the family support program is for states to create or expand statewide systems change. It allows for the award of competitive grants to conduct training, technical assistance, and other national activities designed to address the problems that impede the self-sufficiency of families of children with developmental disabilities.

B. Requirements. Project funds must be used to support the planning and development of family support activities contributing to the self-determination, independence, productivity, and integration and inclusion in all facets of community life of such individuals. Projects will:

(1) Ensure the full participation, choice and control of families of children with developmental disabilities, in decisions related to the provisions of such family support for their family;

(2) Ensure the active involvement of families of children with developmental disabilities in the planning, development, implementation, and evaluation of the project; increase the availability of, funding for, access to, and provision of family support for families of children with developmental disabilities;

(3) Promote training activities that are family-centered and family-directed and that enhance the ability of family members of children with developmental disabilities to increase participation, choice, and control in the provision of family support for families of children with developmental disabilities;

(4) Increase and promote interagency coordination among State agencies, and between State agencies and private entities that are involved in these projects; and

(5) Increase the awareness of laws, regulations, policies, practices, procedures, and organizational structures that facilitate or impede the availability or provision of family support for families of children with developmental disabilities.

II. Award Information

Funding Instrument Type: Grant.

Category of Funding Activity: ISS Income Security and Social Services.

Anticipated Total Program Funding: $550,000.

Anticipated Number of Awards: 6.

Ceiling on Amount of Individual Awards: $100,000 for a State Entity per project period; $50,000 for a Territorial Entity per project period.

An application received that exceeds the upper value of the dollar range specified will be considered “non responsive” and be returned to the applicant without further review.

Floor on Amount of Individual Awards: None.

Project Periods for Awards: Up to 17 month project period with up to one 17 month budget period.

III. Eligibility Information

1. Eligible Applicants

State governments

County governments

City or township governments

Special district governments

Independent school districts

State controlled institutions of higher education

Native American tribal governments (Federally recognized)

Public housing authorities/Indian housing authorities.

Nonprofits with 501(c)(3) IRS status, other than institutions of higher education.

Private institutions of higher education.

Small businesses.

Faith-based and Community-based Organizations

Additional Information on Eligibility: Eligible States and territorial entities under this announcement are: Alabama, Arkansas, Louisiana, Iowa, Tennessee, American Samoa. States not listed above are not eligible to apply.

Eligible applicants include any public or private non-profit organization, including State and local governments, federally recognized Indian tribes, faith-based organizations, and private non-profit organizations including universities and other institutions of higher education designated by the governor or chief executive officer of the State as the lead agency for this project. Applicants awarded planning grants last year (FY 2003) under this announcement are not eligible. Applicants awarded planning grants in Fiscal Years, 1999 through 2002 that have never received a development grant are eligible to apply under this announcement for development funds. A letter from the office of the governor or the chief executive officer designating the applicant as the lead agency for the State or Territory must accompany the application. This lead agency is responsible for coordinating the planning, development, implementation (or expansion and enhancement), and evaluation of a statewide system of family support services for families of children with developmental disabilities. If the Governor's letter does not accompany the application, it will not be reviewed and ranked for funding consideration.

Applicants who have not previously been awarded family support development grants are eligible for family support development grants under this announcement.

All applications developed jointly by more than one agency or organization must identify only one organization as the lead organization and the official applicant. The other participating agencies and organizations can be included as co-participants, subgrantees, or subcontractors.

Before applications under this Program Announcement are reviewed, each one will be screened to determine whether the applicant is eligible for funding. Applications from organizations that do not meet eligibility requirements will not be considered or reviewed in the competition, and the applicant will be so informed.

Private non-profit organizations are encouraged to submit with their applications the survey located under “Grant-Related Documents and Forms” titled “Survey for Private, Non-Profit Grant Applicants” at http://www.acf.hhs.gov/programs/ofs/forms.htm.

Non-profit organizations applying for funding are required to submit proof of their non-profit status. Proof of non-profit status is any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

2. Cost Sharing or Matching

Yes. Grantees must provide at least 25 percent of the total approved cost of the project. Grantees must match $1 for every $3 requested in Federal funding to reach 25% of the total approved cost of the project. The total approved cost of the project is the sum of the total approved cost of the project. The total approved cost of the project is the sum of the ACF share and the non-Federal share. The non-Federal share may be met by cash or in-kind contribution although applicants are encouraged to meet their match requirements through cash contributions. Therefore, a project requesting $100,000 in Federal funds (based on an award of $100,000 per budget period) must provide a match of at least $33,333. Grantees will be held accountable for commitments of non-Federal resources even if over the amount of the required match. Failure to provide the amount will result in disallowance of Federal funds.

Applications that fail to include the required amount of cost-sharing will be considered non-responsive and will not be eligible for funding under this announcement.

3. Other

All Applicants must have a Duns & Bradstreet Number. On June 27, 2003, the Office of Management and Budget published in the Federal Register a new Federal policy applicable to all Federal grant applicants. The policy requires Federal grant applicants to provide a Duns and Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line at 1-866-705-5711 or you may request a number on-line at http://www.dnb.com

Applications that fail to follow the required format described in section IV.2 Application Requirements will be considered non-responsive and will not be eligible for funding under this announcement.

Applications that fail to include the required amount of cost-sharing will be considered non-responsive and will not be eligible for funding under this announcement.

Applications that exceed the ceiling of $100,000 for a State Entity and $50,000 for a Territorial Entity will be considered non-responsive and will not be eligible for funding under this announcement.

IV. Application and Submission Information

1. Address To Request Application Package

Valerie Reese, Program Specialist, U.S. Department of Health and Human Services, Administration for Children and Families, Administration on Developmental Disabilities, 370 L'Enfant Promenade, SW., Mail Stop Room 405D HHH Bldg., Washington, DC 20447, E-mail: vreese@acf.hhs.gov. Phone: (202) 690-5805, Fax: (202) 690-6904.

2. Content and Form of Application Submission

You may submit your application to us in either electronic or paper format.

To submit an application electronically, please use the http://www.Grants.gov apply site. If you use Grants.gov, you will be able to download a copy of the application package, complete it off-line, and then upload and submit the application via the Grants.gov site. You may not e-mail an electronic copy of a grant application to us.

Please note the following if you plan to submit your application electronically via Grants.gov:

• Electronic submission is voluntary.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov. that contains a Grants.gov tracking number. The Administration for Children and Families will retrieve your application from Grants.gov

• We may request that you provide original signatures on forms at a later date.

• You may access the electronic application for this program on http://www.Grants.gov.

• You must search for the downloadable application package by the CFDA number.

Private non-profit organizations may voluntarily submit with their applications the survey located under “Grant Related Documents and Forms” titled “Survey for Private, Non-Profit Grant Applicants” at http://www.acf.hhs.gov/programs/ofs/forms.htm.

Please see Section V for instructions on preparing the project summary/abstract and the full project description.

A. Project Summary/Abstract

Clearly mark this separate page with the applicant name as shown in item 5 of the SF 424, the priority area number as shown at the top of the SF 424, and the title of the project as shown in item 11 of the SF 424. The summary description should not exceed 300 words. These 300 words become part of the computer database on each project.

Provide a summary description that accurately and concisely reflects the proposal. The summary should describe the objectives of the project, the approaches to be used and the expected outcomes. The description should also include a list of major products that will result from the proposed project, such as software packages, materials, management procedures, data collection instruments, training packages, or videos (please note that audiovisuals must be closed captioned and audio described). The project summary description, together with the information on the SF 424, will constitute the project “abstract.” This is a major source of information about the proposed project and is usually the first part of the application that the reviewers read in evaluating the application.

B. Project Description

The Project Description is a very important part of an application. It should be clear, concise, and address the specific requirements mentioned in Part I.

The narrative should also provide information concerning how the application meets the evaluation criteria, using the following headings:

(a) Objectives and Need for Assistance;

(b) Results and Benefits Expected;

(c) Approach;

(a) Organization Profile; and

(b) Budget and Budget Justification.

C. Assurances, Certifications and Other Forms

Applicants are required to submit a SF 424B, Assurances—Non-Construction Programs and the Certification Regarding Lobbying. Prior to receiving an award in excess of $100,000, applicants should furnish an executed copy of the lobbying certification (approved by the Office of Management and Budget under control number 0348-0046). Applicants must sign and return the certification with their application.

Applicant must also understand that they will be held accountable for the smoking prohibition included within Pub. L. 103-227, Part C Environmental Tobacco Smoke (also known as the Pro-Children's Act of 1994). By signing and submitting the application, applicants are providing the certification and need not mail back the certification with the application.

In addition, applicants are required under Section 162(c)(3) of the Act to provide assurances that the human rights of all individuals with developmental disabilities (especially those individuals without familial protection) who will receive services under projects assisted under Part E will be protected consistent with section 110 (relating to the rights of individuals with developmental disabilities). Each application must include a statement providing this assurance.

For research projects in which human subjects may be at risk, a Protection of Human Subjects Assurance may be required. If there is a question regarding the applicability of this assurance, contact the Office for Research Risks of the National Institutes of Health at (301) 496-7041.

Private non-profit organizations are encouraged to submit with their applications the survey located under “Grant-Related Documents and Forms” titled “Survey for Private, Non-Profit Grant Applicants” at www.acf.hhs.gov/programs/ofs/forms.htm.

D. Checklist for a Complete Application

The checklist below is for your use to ensure that your application package has been properly prepared.

—One original, signed and dated application, plus two copies;

—Application is from an organization that is eligible under the eligibility requirements, defined in the Priority Area description; and

—Application length does not exceed 60 pages, including attachments and all federally required forms.

A complete application consists of the following items in this order:

Application for Federal Assistance (SF 424, REV 4-88);

—A completed SPOC certification with the date of SPOC contact entered in line 16, page 1 of the SF 424 if applicable;

—Budget Information—Non-Construction Programs (SF 424A, REV 4-88);

—Budget justification for Section B—Budget Categories;

—Table of Contents;

—Letter from the Internal Revenue Service, etc. to prove non-profit status, if necessary;

—Copy of the applicant's approved indirect cost rate agreement, if appropriate; (when charging indirect costs to Federal funds or when using indirect costs as a matching share);

—Letter from the Governor in the applicant's State or Territory designating the applicant as the lead agency as required by the Program Announcement;

—Project Description;

—Letter(s) of commitment verifying non-Federal cost share

—Any appendices/attachments;

—Assurances—Non-Construction Programs (Standard Form 424B, REV 4-88);

—Certification Regarding Lobbying;

—Certification of Protection of Human Subjects, if necessary; and

—Certification of the Pro Children Act of 1994, signature on the application represents certification.

—Voluntary Survey for Private, Non-Profit Grant Applicants

E. The Application Package

Each application package must include an original and two copies of the complete application. Each copy should be stapled securely (front and back if necessary) in the upper left-hand corner. All pages of the narrative (including charts, tables, maps, exhibits, etc.) must be sequentially numbered, beginning with page one. In order to facilitate handling, please do not use covers, binders or tabs. Do not include extraneous materials as attachments, such as agency promotion brochures, slides, tapes, film clips, minutes of meetings, survey instruments or articles of incorporation.

The narrative should be typed double spaced on a single side of an 8½″ x 11″ plain white paper, with 1” margins on all sides, using black print no smaller than 12 pitch or 12 point size. All pages of the narrative, including attachments (such as charts, references/footnotes, tables, maps, exhibits, etc.) and letters of support must be sequentially numbered, beginning with “Objectives and Need for Assistance” as page number one. Applicants should not submit reproductions of larger size paper, reduced to meet the size requirement.

The length of the application, including all attachments and required Federal forms, must not exceed 60 pages. The federally required forms will be count towards the total number of pages. The 60-page limit will be strictly enforced. All pages beyond the first 60 pages of text will be removed prior to applications being evaluated by the reviewers. A page is a single side of an 8½ x 11″ sheet of paper with 1″ margins.

Applicants are requested not to send pamphlets, brochures or other printed material along with their application as these pose copying difficulties. These materials, if submitted, will not be included in the review process if they exceed the 60-page limit. Each page of the application will be counted to determine the total length.

Applicants have the option of omitting the Social Security Numbers and specific salary rates of the proposed projects from the two copies submitted with the original application to ACF. For purposes of the outside review process, applicants may elect to summarize salary information on the copies of their application. All salary information must, however, appear on the signed original application for ACF.

Notification of State Developmental Disabilities Planning Councils

A copy of the application must also be submitted for review and comment to the State Developmental Disabilities Council in each State in which the applicant's project will be conducted. A list of the State Developmental Disabilities Councils can be found at ADD's Web site: http:///www.acf.dhhs.gov/programs/add or by contacting Joan Rucker, ADD, 370 L'Enfant Promenade SW., Mail Stop 405D HHH Bldg, Washington, DC 20447, (202) 690-7898.

3. Submission Dates and Times

The closing time and date for receipt of applications is 4:30 p.m. Eastern Standard Time (EST) on June 8, 2004. Mailed or hand carried applications received after 4:30 p.m. EST on the closing date will be classified as late.

• Deadline: Mailed applications shall be considered as meeting an announced deadline if they are received on or before the deadline time and date: U.S. Department of Health and Human Services, Administration for Children and Families, Office of Grants Management, 8th Floor, Aerospace Building, 370 L'Enfant Promenade, SW., Washington, DC 20447-0002, Attention: Lois Hodge.

Applicants are responsible for mailing applications well in advance, when using all mail services, to ensure that the applications are received on or before the deadline time and date.

• Applications hand carried by applicants, applicant couriers, other representatives of the applicant, or by overnight/express mail couriers shall be considered as meeting an announced deadline if they are received on or before the deadline date, between the hours of 8 a.m. and 4:30 p.m., EST, at the U.S. Department of Health and Human Services, Administration for Children and Families, Division of Discretionary Grants ACF Mailroom, 2nd Floor (near loading dock), Aerospace Center, 901 D Street, SW., Washington, DC 20024, between Monday and Friday (excluding Federal holidays). This address must appear on the envelope/package containing the application with the note, “Attention: Lois Hodge.”

Applicants are cautioned that express/overnight mail services do not always deliver as agreed. ACF cannot accommodate transmission of applications by fax.

Late applications: Applications which do not meet the criteria above are considered late applications. ACF shall notify each late applicant that its application will not be considered in the current competition.

Extension of deadlines: ACF may extend application deadlines when circumstances such as acts of God (floods, hurricanes, etc.) occur, or when there are widespread disruptions of mail service, or in other rare cases. A determination to extend or waive deadline requirements rests with the Chief Grants Management Officer.

What to submit | Required content | Required form or format | When to submit
SF424, SF424A, SF424B | Per required form | May be found at 60 http://www.acf.hhs.gov/program/ofs/forms.htm | 60 days from release date.
Project Summary/Abstract | Summary of application request | One page limit | 60 days from release date.
Disclosure of Lobbying Activities (SF-LLL) | Per required form | May be found at http://www.acf.hhs.gov/program/ofs/forms.htm | 60 days from release date.
Environmental Tobacco Smoke Certification | Per required form | May be found at http://www.acf.hhs.gov/program/ofs/forms.htm | 60 days from release date.

Additional Forms:

Private non-profit organizations may voluntarily submit with their applications the survey located under “Grant Related Documents and Forms” titled “Survey for Private, Non-Profit Grant Applicants” at http://www.acf.hhs.gov/programs/ofs/forms.htm.

What to submit | Required content | Required form or format | When to submit
Survey for Private, Non-Profit Grant Applicant | Per required form | May be found at http://www.acf.hhs.gov/programs/ofs/forms.htm | 60 days from release date.

4. Intergovernmental Review

State Single Point of Contact (SPOC), Notification Under Executive Order 12372

This program is covered under Executive Order (E.O.) 12372, “Intergovernmental Review of Federal Programs,” and 45 CFR Part 100, “Intergovernmental Review of Department of Health and Human Services Programs and Activities.” Under the Order, States may design their own processes for reviewing and commenting on proposed Federal assistance under covered programs.

As of January, 2003, of the most recent SPOC list, the following jurisdictions have elected not to participate in the Executive Order process. Applicants from these jurisdictions or for projects administered by federally-recognized Indian Tribes need take no action in regard to E.O. 12372: Alabama, Alaska, Colorado, Connecticut, Hawaii, Idaho, Kansas, Louisiana, Massachusetts, Minnesota, Montana, Nebraska, New Jersey, New York, Ohio, Oklahoma, Oregon, Palau, Pennsylvania, South Dakota, Tennessee, Vermont, Virginia and Washington.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a) (2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Office of Grants Management, Division of Discretionary Grants, 370 L'Enfant Promenade, SW., Mail Stop 6C-462, Washington, DC 20447. The official list, including addresses, of the jurisdictions elected to participate in E.O. 12372 can be found at: http://www.whitehouse.gov/omb/grants/spoc.html.

A list of the Single Points of Contact for each State and Territory is included with the application materials in this announcement.

5. Funding Restrictions

Reimbursement of pre-award costs, costs for foreign travel or costs for construction activity are not allowable charges to the program grant.

6. Other Submission Requirements:

Electronic Link to Full Announcement: http//www.acf.dhhs.gov/programs/add/announce.htm

Electronic Address to Submit Applications: http://www.grants.gov.

Mailed applications shall be considered as meeting an announced deadline if they are received on or before the deadline time and date at the U.S. Department of Health and Human Services, Administration for Children and Families, Division of Discretionary Grants, Attention: Lois Hodge 370 L'Enfant Promenade, SW., Washington, DC 20447. Applicants are responsible for mailing applications well in advance, when using all mail services, to ensure that the applications are received on or before the deadline time and date.

Hand Delivery: Applications hand carried by applicants, applicant couriers, other representatives of the applicant, or by overnight/express mail couriers shall be considered as meeting an announced deadline if they are received on or before the deadline date, between the hours of 8 a.m. and 4:30 p.m., EST, at the U.S. Department of Health and Human Services, Administration for Children and Families, Division of Discretionary Grants ACF Mailroom, 2nd Floor (near loading dock), Aerospace Center, 901 D Street, SW., Washington, DC 20024, between Monday and Friday (excluding Federal holidays). This address must appear on the envelope/package containing the application with the note “Attention: Lois Hodge. Applicants are cautioned that express/overnight mail services do not always deliver as agreed.”

ACF cannot accommodate transmission of applications by fax.

Electronic Submission: Please see Section IV. 2. Content and Form of Application Submission, for guidelines and requirements when submitting applications electronically.

V. Application Review Information:

1. Criteria

Paperwork Reduction Act of 1995 (Pub. L. 104-13)

Public reporting burden for this collection of information is estimated to average 20 hours per response, including the time for reviewing instructions, gathering and maintaining the data needed and reviewing the collection information. The following ACF Uniform Project Description (UPD) has been approved under OMB Control Number 0970-0139.

General Instructions for the Uniform Project Description

Applicants required to submit a full project description should prepare the project description statement in accordance with the following instructions.

Project summary/abstract: Provide a summary of the project description (a page or less) with reference to the funding request.

Objectives and need for assistance: Clearly identify the physical, economic, social, financial, institutional, or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or benefits expected: Identify the results and benefits to be derived. For example, extent to which the application is consistent with the objectives of the application, and the extent to which the application indicates the anticipated contributions to policy practice, theory and research. Extent to which the proposed project cost is reasonable in view of the expected results.

Approach: Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates. If any data are to be collected, maintained, and disseminated, clearance may be required from the U.S. Office of Management and Budget (OMB). This clearance pertains to any “collection of information that is conducted or sponsored by ACF.”

List organizations, cooperating entities, consultants, or other key individuals who will work on the project along with a short description of the nature of their effort or contribution.

Organizational Profile: Provide information on the applicant organization(s) and cooperating partners such as with organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission. The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Budget and Budget Justification: Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

Minimum Requirements for Project Design. ADD requires grant funds to be used to support the development of State policies that reinforce and promote (with the support of families, guardians, advocates, and communities of individuals with developmental disabilities) the self-determination, independence, productivity and integration and inclusion in all facets of community life of such individuals through family support activities. Project activities should accomplish any of the following:

• Establishment of a State Policy Council of families of children with developmental disabilities, or utilization of an existing council which will advise and assist the lead entity in the performance of activities under the project. The State Policy Council shall be composed of a majority of participants who are family members of children with developmental disabilities, or who are youth with developmental disabilities (ages 18-21), or qualify under both categories;

• Training and technical assistance for family members, service providers, community members, professionals, members of the Policy Council, State agency staff, students and others;

• Interagency coordination of Federal and State policies, resources, and services; establishment of interagency workgroups to enhance public funding options and coordination; and other interagency activities that promote coordination;

• Outreach to locate families who are eligible for family support and to identify groups who are underserved or unserved;

• Policy studies that relate to the development and implementation, or expansion and enhancement, of a statewide system of family support for families of children with developmental disabilities;

• Hearings and forums to solicit input from families of children with developmental disabilities, regarding family support programs, policies, and plans for such families;

• Public awareness and education to families of children with developmental disabilities, parent groups and organizations, public and private agencies, students, policymakers, and the general public;

• Needs assessment;

• Data collection and analysis related to the statewide system of family support for families of children with developmental disabilities;

• Implementation plans must include innovative partnerships with community organizations to increase the utilization of generic services by families of children with developmental disabilities;

• Pilot demonstration projects to demonstrate new approaches to the provision of family support for families of children with developmental disabilities, that includes family strengthening services such as parenting education and marriage education;

• Development of an evaluation system that uses measurable outcomes based on family satisfaction indicators. Indicators include the extent to which a service or support meets a need, solves a problem, or adds value for families of children with developmental disabilities, as determined by the individual family.

ADD expects to fund applications that include or incorporate into these activities one or more of the following populations relevant to their State: (1) Unserved and underserved populations that include populations such as individuals from racial and ethnic minority backgrounds, economically disadvantaged individuals, individuals with limited-English proficiency, and individuals from underserved geographic areas (rural or urban); (2) aging families of adult children with developmental disabilities, who are over age 21 with a focus on assisting those families and their adult child to be included as self-determining members of their communities; (3) foster/adoptive families of children with developmental disabilities; (4) families participating in the State's Temporary Assistance for Needy Families Program (TANF), welfare-to-work, and/or SSI program; (5) veterans with families having a child with a developmental disability; (6) parents with developmental disabilities (especially cognitive disabilities) who have children with or without disabilities; and (7) families of children with developmental disabilities who have behavioral/emotional issues.

ADD intends to fund those applications that describe how the project will:

• Ensure consumer/self-advocate orientation and participation;

• Include key project personnel with direct life experience living with a developmental disability;

• Have strong advisory components that consist of a majority of individuals with developmental disabilities and a structure where individuals with developmental disabilities make real decisions that determine the outcome of the grant;

• If the project includes research, reflect the principles of participatory action;

• Consider cultural competency (“cultural competency” as defined in the DD Act as—services, supports, or other assistance that is conducted or provided in a manner that is responsive to the beliefs, interpersonal styles, attitudes, language, and behavior of individuals who are receiving the services, supports or other assistance, and in a manner that has the greatest likelihood of ensuring their maximum participation in the program involved);

• Allow individuals with developmental disabilities and their families to be involved in all aspects of the design, implementation, and evaluation of the project;

• Attend to unserved and inadequately served individuals, who have developmental disabilities (from mild to severe), and who are from multicultural backgrounds, rural and inner-city areas, and migrant, homeless, and refugee families;

• Comply with the Americans With Disabilities Act, if applicable, and Section 504 of the Rehabilitation Act of 1973 as amended by the Rehabilitation Act Amendments of 1998 (Pub. L. 105-220);

• Use collaboration through partnerships and coalitions;

• Develop the capacity to communicate and disseminate information and technical assistance through e-mail and other effective, affordable, and accessible forms of electronic communication;

• Develop and establish system change activities beyond the project period; and

• Disseminate models, products, best practices, and strategies for distribution between networks and beyond.

Applications must also include provisions for the travel of a key staff person during the project period to Washington, DC.

Evaluation Criteria

Five (5) criteria will be used to review and evaluate each application under this announcement. Each criterion should be addressed in the project description section of the application. The point values indicate the maximum numerical weight possible for a criterion in the review process. The specific information to be included under each of these headings is described in the General Instructions for the Uniform Project Description. Additional information that must be included is described below.

Criterion 1: Approach (Maximum 35 points)

Applicants are expected to present a plan that (1) reflects an understanding of the characteristics, needs and services currently available to the targeted population; (2) provides services that directly address the needs of the target population; (3) is evidence-based and grounded in theory and practice; (4) is appropriate and feasible; (5) can be reliably evaluated; and (6) if successfully implemented, can be sustained after Federal funding has ceased.

The application will be evaluated on the extent to which it:

(1) Outlines a plan of action pertaining to the scope and detail on how the proposed work will be accomplished for each project. Defines goals and specific measurable objectives for the project (8 points);

(2) Identifies the kinds of data to be collected and maintained, and discuss the criteria to be used to evaluate the results and success of the project. Describes how the proposed project will be evaluated to determine the extent to which it has achieved its stated goals and objectives; and whether the methods of evaluation include the use of performance measures that are clearly related to the intended outcome of the project (8 points);

(3) Describes any unusual features of the project, such as design or technological innovation, reductions in cost or time, or extraordinary social and community involvement (5 points);

(4) Provides quantitative monthly or quarterly projections of the accomplishments to be achieved for each function or activity, in such terms as the number of people to be served and the number of activities accomplished. When accomplishments cannot be quantified, activities should be listed in chronological order to show the schedule of accomplishments and their target dates (4 points);

(5) Describes the products to be developed during the implementation of the proposed project. These can include questionnaires, interview guides, data collection instruments, software, Internet applications, reports, outcomes and evaluation results. Also present a dissemination plan for conveying the information (4 points);

(6) Cites factors which might accelerate or decelerate the work and provide reasons for taking this approach as opposed to others (3 points);

(7) Lists each organization, operator, consultant, or other key individual who will work on the project along with a short description of the nature of their effort or contribution (3 points).

Criterion 2: Objectives and Need for Assistance (Maximum 25 points)

The application should describe the context of the proposed demonstration project, including the geographic location, environment, magnitude and severity of the problem(s) to be solved and the needs to be addressed. Applications requesting development funds, in addition to providing the following information, should include a summary/abstract of the project goals and accomplishments during the planning grant.

The application will be evaluated on the extent to which it:

(1) Demonstrates the need for the assistance and states the principal and subordinate objectives for the project (10 points).

(2) Pinpoints any relevant physical, economic, social, financial, institutional, or other problems requiring a solution (5 points).

(3) Provides supporting documentation or other testimonies from concerned interests other than the applicant (5 points).

(4) Provides any relevant data based on planning studies (4 points); and

(5) Provides maps and other graphic aids (1 point).

Criterion 3: Results or Benefits Expected (Maximum 20 points)

The application should identify results and benefits to be derived and the anticipated contribution to policy, practice, theory and research should be indicated.

The application will be evaluated on the extent to which it:

(1) Clearly describes project benefits and results as they relate to the objectives of the project (10 points); and

(2) Provides information as to the extent to which the project will build on current theory, research, evaluation and best practices to contribute to increased knowledge of understanding the problems, issues or effective strategies and practices in family support (10 points).

Criterion 4: Organizational Profile (13 points)

Applications should demonstrate a capacity to implement the proposed project. Capacity includes (1) experience with similar projects; (2) experience with the target population; (3) qualifications and experience of the project leadership; (4) commitment to developing sustaining work among key stakeholders; (5) experience and commitment of any proposed consultants and subcontractors; and (6) appropriateness of the organizational structure, including its management information system, to carry out the project.

The application will be evaluated on the extent to which it:

(1) Identifies the background of the project director/principal investigator and key project staff (including name, address, training, educational background and other qualifying experience) and the experience of the organization that demonstrates the an ability to effectively and efficiently administer this project; present brief resumes (4 points);

(2) Provides a brief background description of how the applicant organization is organized, the types and quantity of services it provides, and the research and management capabilities it possesses (4 points);

(3) Describes the competence of the project team and its demonstrated ability to produce a final product that is readily comprehensible and usable (3 points); and

(4) Provides an organization chart showing the relationship of the project to the current organization (2 points).

Criterion 5: Budget and Budget Justification (7 points)

Applications must present a budget with reasonable project costs, appropriately allocated across component areas, and sufficient to accomplish the objectives. The dollar amount requested must be fully justified and documented.

A letter of commitment of non-Federal resources must be submitted with the application in order to be given credit in the review process. A fully explained non-Federal share budget must be prepared for each funding source.

The application will be evaluated on the extent to which it:

(1) Discusses and justifies the costs of the proposed project which are reasonable and programmatically justified in view of the activities to be conducted and the anticipated results and benefits (3 points);

(2) Describes the fiscal control and accounting procedures that will be used to ensure prudent use, proper disbursement, and accurate accounting of funds received under this program announcement (2 points); and

(3) Includes a fully explained non-Federal share budget and its source(s) (2 points).

Additional Points

This year, five additional points will be added to the total in the score for an application for any project that includes partnership and collaboration with one or more of the 140 Empowerment Zones/Enterprise Communities. To receive the additional five points, the application must provide a clear outline for the collaboration and a discussion of how the involvement of the EZ/EC is related to the objectives and the activities of the project. Also, a letter from the appropriate representatives of the EZ/EC must accompany the application indicating its agreement to participate and describing its role in the project. For further information on Empowerment Zones and Enterprise Communities, please visit the ACF Office of Community Service's Web site at http://www.acf.hhs.gov/programs/ocs/ez-ec.

2. Review and Selection Process

A. Selection Process

Applications under this Program Announcement from eligible applicants received by the deadline date will be competitively reviewed and scored. Experts in the field, generally persons from outside the Federal Government, will use the evaluation criteria listed later in the evaluation section of the Program Announcement to review and score the applications. The results of this review are a primary factor in making funding decisions.

ADD reserves the option of discussing applications with, or referring them to, other Federal or non-Federal funding sources when this is determined to be in the best interest of the Federal Government or the applicant.

In making PNS decisions for 2004 grant awards, ADD will consider whether applications focus on or feature the following aspects/activities in their project design to the extent appropriate:

• A substantially innovative strategy with the potential to improve theory or practice in the field of human services;

• A model practice or set of procedures that holds the potential for replication by organizations administering or delivering human services;

• A substantial involvement of volunteers, the private sector (either financial or programmatic), faith-based and community organizations, and/or national or community foundations;

• A favorable balance between Federal and non-Federal funds available for the proposed project, which is likely to result in the potential for high benefit for low Federal investment; and

• A programmatic focus on those most in need of services and assistance, such as unserved and underserved populations, including underserved cultural, ethnic, and racial minority populations.

To the greatest extent possible, efforts will be made to ensure that funding decisions reflect an equitable distribution of assistance among the States and geographical regions of the country, and rural and urban areas. In making these decisions, ADD may also take into account the need to avoid unnecessary duplication of effort.

B. Review Process

Using the evaluation criteria described above, a panel of at least three reviewers (primarily experts from outside the Federal Government) will evaluate and score the applications. To facilitate this review, applicants should ensure that they address the minimum requirements identified in the Priority Area description under the appropriate section of the Program Narrative Statement.

Reviewers will determine the strengths and weaknesses of each application in terms of the evaluation criteria listed below, provide comments, and assign numerical scores. The point value following each criterion indicates the maximum numerical weight that each applicant may receive per section in the review process.

VI. Award Administration Information

1. Award Notices

Subject to the availability of funding, ADD intends to award new grants resulting from this Program Announcement during the fourth quarter of Fiscal Year 2004. Up to $550,000 in Federal funds will be available to support these projects this fiscal year.

Successful and unsuccessful applicants will be notified of the results of this grant competition within 90 days of the application deadline.

Following approval of the application selected for funding, ACF will mail a written notice of award to the applicant organization. The official award document is the Financial Assistance Award that specifies the amount of the Federal funds approved for use in the project, the project and budget period for which support is provided and the terms and conditions of the award. The notice of award signed by the grants management officer is the authorizing document.

For the purpose of the awards under this Program Announcement, the successful applicants should expect a project start date of September 1, 2004.

2. Administrative and National Policy Requirements

45 CFR Part 74, Administration of Grants for Institutions of Higher Education, non-profit organizations and Indian Tribal Governments.

45 CFR Part 92, Uniform Administrative Requirement for Grants and Cooperative Agreements to State and Local Governments.

Public Law 108-96.

3. Reporting Requirements

A. Programmatic Reports: semi-annually, and a final report due 90 days after end of Project Period.

B. Financial Reports: semi-annually, and a final report due 90 days after end of Project Period.

Original reports and one copy should be mailed to: Lois Hodge, Grants Officer, 370 L'Enfant Promenade, SW., Washington, DC, 20447.

VII. Agency Contacts

Program Office Contact: Joan Rucker, Program Specialist, 370 L'Enfant Promenade, SW., Washington, DC 20447, (202) 690-7898, jrucker@acf.hhs.gov, or fax (202) 690-6904.

Grants Management Office Contact: Lois Hodge, Grants Officer, 370 L'Enfant Promenade, SW., Washington, DC 20447, (202) 401-2344, or e-mail lhodge@acf.hhs.gov.

Application Materials Contact: Valerie Reese, Program Specialist, 370 L'Enfant Promenade, SW., Washington, DC 20447, (202) 690-5805, vreese@acflhhs.gov, or fax (202) 690-6904.

VIII. Other Information

All forms are available online at: http://www.acf.hhs.gov/programs/ofs/form/htm.

Dated: April 5, 2004.
Patricia A. Morrissey,
Commissioner, Administration on Developmental Disabilities.

[FR Doc. 04-8081 Filed 4-8-04; 8:45 am]

BILLING CODE 4184-01-P